DEPARTMENT OF THE INTERIOR

Fish and Wildlife Service

50 CFR Part 17

Endangered and Threatened Wildlife and Plants; Proposed Rule To List Six Foreign Birds as Endangered

AGENCY: Fish and Wildlife Service, Interior.

ACTION: Proposed rule.

SUMMARY: We, the U.S. Fish and Wildlife Service (Service), propose to list six avian species, black stilt (Himantopus novaezelandiae), caerulean Paradise-flycatcher (Eutrichomyias rowleyi), giant ibis (Pseudibis gigantea), Gurney's pitta (Pitta gurneyi), Socorro mockingbird (Mimodes graysoni), and long-legged thicketbird (Trichocichla rufa) as endangered, pursuant to the Endangered Species Act of 1973, as amended (Act). This proposal, if made final, would extend the Act's protection to these species. The Service seeks data and comments from the public on this proposal.

DATES: We must receive comments and information from all interested parties by February 20, 2007. Public hearing requests must be received by January 8, 2007.

ADDRESSES: Submit any comments, information, and questions by mail to the Chief, Division of Scientific Authority, U.S. Fish and Wildlife Service, 4401 N. Fairfax Drive, Room 750, Arlington, VA 22203; or by fax to 703-358-2276; by e-mail to ScientificAuthority@fws.gov or through the Federal eRulemaking Portal at http://www.regulations.gov. Comments and supporting information will be available for public inspection, by appointment, Monday through Friday from 8 a.m. to 4 p.m. at the above address.

FOR FURTHER INFORMATION CONTACT: Marie T. Maltese at the above address, or by telephone, 703-358-1708; fax, 703-358-2276; or e-mail, ScientificAuthority@fws.gov.

SUPPLEMENTARY INFORMATION:

Background

In this proposed rule, we propose to list six foreign bird species as endangered, pursuant to the Act (16 U.S.C. 1531 et seq.). These species are: giant ibis (Pseudibis gigantea), black stilt (Himantopus novaezelandiae), Gurney's pitta (Pitta gurneyi), Socorro mockingbird (Mimodes graysoni), caerulean Paradise-flycatcher (Eutrichomyias rowleyi), and long-legged thicketbird (Trichocichla rufa).

Black stilt

The black stilt, or kaki, was first described by Gould in 1841 (BirdLife International 2006). A small black wading bird with long red legs, the species was formerly widespread across New Zealand. In 1950, the total population was estimated at 1,000 birds; however, within one decade the population decreased to fewer than 100 birds (Pierce 1996). When a concerted effort to manage the species began in 1981, only 23 adults remained in the wild population (Van Heezik et al. 2005). In August 2000, there were 48 adults in the wild, of which 15-18 were females. An additional 11 male and 9 female adult black stilts are held in captivity (Maloney and Murray 2001). Despite the release of captive-hatched young, by 2005, only 4-13 breeding pairs were observed in the wild (Van Heezik et al. 2005). The species is listed as “Critically Endangered” by the IUCN (World Conservation Union) and the New Zealand Department of Conservation (Maloney and Murray 2001), and is considered one of the most threatened shorebirds in the world (IUCN 2005).

Caerulean Paradise-flycatcher

The caerulean Paradise-flycatcher was first recorded in 1874, and was not observed again until recently (Wardill and Riley 2000). It is only known to occur in one small, unprotected forest on the island of Sangihe, north of Sulawesi, Indonesia (BirdLife International 2001; British Broadcasting Corporation 2003). This flycatcher is a sedentary insectivore that prefers lower-elevation primary forest habitat; however, individuals have recently been found in steep, forested gullies (Birdlife International 2004).

In a review of Indonesia's development, degraded rainforests, and decreasing biological diversity, Thompson (1996) noted that the Indonesian rain forests are biologically rich, with more than 10,000 species of trees, 500 species of mammals, and 1,500 species of birds, all playing a vital role in regulating the ecosystem. However, Indonesia also has the world's longest list of species threatened with extinction, and in his review Thompson stated that the caerulean Paradise-flycatcher was believed to have become extinct during the 1980s. There were no sightings of live caerulean Paradise-flycatchers during the last century, and the species was known only from the type specimen. Searches in 1985 and 1986 failed to locate the species, fueling the belief that the species was extinct. However, in 1998, a single female was discovered by a joint expedition of the University of Sam Ratulangi in Indonesia and Britain's York University. Subsequent expeditions located a population of at least 21 birds in 6 localities around the base of Gunung Sahendaruman, a mountain on the small island of Sangihe (Birdlife International 2004). The total caerulean Paradise-flycatcher population is currently estimated to range from 19 to 135 birds (BirdLife International 2005). The species is considered “Critically Endangered” by the IUCN because of its low estimated population and extremely limited range, both which continue to undergo major and continuing declines (IUCN 2005).

Giant ibis

The giant ibis is a lowland bird found in both open and forested wetland habitats (Collar et al. 1994). It inhabits open deciduous forest in extreme southern Laos and a portion of northern and eastern Cambodia (BirdLife International 2001). The species' range has been remarkably reduced, considering its historic range spanned central and peninsular Thailand, central and northern Cambodia, southern and central Laos, and southern Viet Nam (King et al. 1975, as cited in Collar et al. 1994). It appears that the species has always been uncommon and local throughout its range; sightings are extremely rare (Matheu and del Hoyo 1992; BirdLife International 2000). The remaining giant ibis population is found in Cambodia, although several sightings of giant ibis have been reported from southern Laos. The species is considered extirpated from Viet Nam and Thailand (BirdLife International 2000).

The IUCN categorizes the giant ibis as a “Critically Endangered” species (IUCN 2005). The current status and trend for the giant ibis is described as declining (IUCN 2005). The entire giant ibis population was estimated at about 250 individuals in 1997, but current estimates put the population at fewer than 50 mature individuals (BirdLife International 2000).

Gurney's pitta

The Gurney's pitta, first described by Hume in 1875, is classified as “Critically Endangered” by the IUCN, and is considered to be on the verge of extinction (IUCN 2005). Until recently, the species was known only from a single declining population in Thailand, which occupies an extremely small and declining range (Rose 2003). However, in 2003, surveys in southern Tenasserim, Myanmar, revealed a minimum of 4 populations, although these are extremely small, numbering no more than 10-12 pairs at a given location (BirdLife International 2003c).

The Gurney's pitta was formerly considered common across much of its range in lowland evergreen forests in peninsular Thailand and adjacent southern Tenasserim, Myanmar. However, the species was not documented in Myanmar from 1914 to 2003, and between 1952 and 1986, there were no reported field observations in Thailand. A few pittas were finally located in a small forest patch in southern Thailand with the help of a wildlife smuggler in Bangkok, after he was found to have an individual bird in his possession (Round and Gretton 1989). Intensive surveys since 1986 located the species in at least five localities, although it has since been extirpated from all but one of these areas (BirdLife International 2000). The remaining viable population is located in a 2-square-mile area of Khao Nor Chuchi (Round and Gretton 1989) and declined from 44-45 pairs in 1986, to 9 pairs in 1997, most of which were located outside of protected areas (BirdLife International 2000). Surveys in 2000 and 2001 later estimated the total world population of the Gurney's pitta to be no more than 30 individuals, with 11-12 territories located in Khao Nor Chuchi and another 2 at nearby Tambon Aw Tong, in Trang (Rose 2003). Field surveys in Myanmar resulted in the discovery of four small populations. BirdLife International has begun comprehensive surveys of remaining populations in southern Myanmar and is working to conserve remaining lowland forests there (BirdLife International 2004, 2005).

Socorro Mockingbird

The Socorro mockingbird is endemic to Socorro Island in the Revillagigedo Islands, Mexico (BirdLife International 2000). In 1925, it was the most abundant land-based bird in the area and was still considered abundant in 1958. However, the species began to decline over the next 20 years, and by 1978, it was believed to be on the verge of extinction (BirdLife International 2000). From 1988 through 1990, an estimated population of 50-200 pairs of mockingbirds remained in the area (Castellanos and Rodriguez-Estrella 1993, as cited in BirdLife International 2000). By 1993-1994, an estimated 350 individuals remained (Mart and Curry 1996, as cited in BirdLife International 2000), and of the 215 birds that were banded, 55 percent were subadults (BirdLife International 2000). The large percentage of subadults suggests that the number of mature individuals is quite small (IUCN 2005). Current estimates of population size for the species range from 50 to 249 individuals (BirdLife International 2000). The Socorro mockingbird is listed as “Critically Endangered” by the IUCN (IUCN 2005).

The Socorro mockingbird dwells in moist dwarf forest and ravines with a mixture of shrubs above 600 meters in altitude (Mart and Curry 1996, as cited in BirdLife International 2000). Habitat vegetation is dominated by several tree species, including Ilex socorrensis, Guettarda insularis, and Oreopanax xalapensis (BirdLife International 2000). Understory vegetation includes Triumfetta socorrensis and Eupatorium pacificum (BirdLife International 2000). The species is less common in taller forest patches and groves of fig (Ficus cotinifolia) at low and mid elevations, and is no longer present in areas of Croton masonii scrub near sea-level (Mart and Curry 1996, as cited in BirdLife International 2000). The species was previously widespread in all vegetation types on the Island, including scrub, woodland, and woodland edge (Cody 2005). Its current range is extremely limited and continuing to decline (BirdLife International 2000).

Long-Legged Thicketbird

The long-legged thicketbird, originally described by Reichenow in 1890, has long been considered extinct and was only recently rediscovered by researchers after an absence of sightings since 1894 (BirdLife International 2003b). It is classified as “Data Deficient” by the IUCN (IUCN 2005). A taxon is designated as Data Deficient when there is inadequate information to make a direct, or indirect, assessment of its risk of extinction based on its distribution and/or population status. Listing of taxa in this category indicates that more information is required and acknowledges the possibility that future research will show that a threatened classification is appropriate (IUCN 2004). On November 28, 2003, BirdLife International announced that the species had been located during a survey of rare birds in Fiji. The long-legged thicketbird is only found in dense undergrowth on the mountains of Fiji. Researchers, it was reported, discovered 12 pairs in Wabu, a remote Forest Reserve on the island of Viti Levu, in Fiji (BirdLife International 2003b). The Darwin Initiative funded the rare bird survey, which was conducted by BirdLife International, and the project's coordinator was the first to hear the thicketbird's song. It was this song that revealed the species' presence to the researchers as they were recording the previously undescribed and unknown song (BirdLife International 2003b). Nine pairs were found along a 2-km length of stream in dense undergrowth thickets. Researchers believe these 18 birds reflect a relatively high local density in this unlogged forest at an elevation of 800-1000 meters (BirdLife International 2003b). Two of the pairs were accompanied by recently fledged juveniles. Encouraged by identifying the species' song, researchers plan to fully assess the population's status and develop a conservation plan. The local residents named the secretive thicketbird “Manu Kalou,” or “Spirit Bird,” during the 19th century because of its ethereal voice. The thicketbird is only known from four birds that were collected from 1890 to 1894, and unconfirmed reports of sightings in 1967, 1973, and 1991 (BirdLife International 2000). Two individuals of a subspecies, Trichocichla rufa clunei, were discovered in 1974, but since then, there has been no evidence of its continued existence (BirdLife International 2003b).

We had previously concluded from the best available scientific and commercial information that the long-legged thicketbird was likely to be extinct, and listing the species was no longer warranted. However, we received information in response to the Annual Notice of Findings indicating that the species exists, albeit in very small numbers. The magnitude of the threat to the species is high, and the immediacy of threat is imminent. Therefore, we assigned this species a listing priority ranking of 1 and determined that listing this species is warranted at this time.

Previous Federal Action

Section 4(b)(3)(A) of the Act requires the Service to make a finding known as a “90-day finding” on whether a petition to list, delist, or reclassify a species has presented substantial information indicating that the requested action may be warranted. To the maximum extent practicable, the finding shall be made within 90 days following receipt of the petition and published promptly in the Federal Register. If the 90-day finding is positive (i.e., the petition has presented substantial information indicating that the requested action may be warranted), Section 4(b)(3)(A) of the Act requires the Service to commence a status review of the species if one has not already been initiated under the Service's internal candidate assessment process. In addition, Section 4(b)(3)(B) of the Act also requires the Service to make a finding within 12 months following receipt of the petition on whether the requested action is warranted, not warranted, or warranted but precluded by higher-priority listing actions (this finding is referred to as the “12-month finding”). The 12-month finding is also to be published promptly in the Federal Register. If the listing of a species is found to be warranted but precluded, then the petition to list that species is treated as if it is a petition that is resubmitted on the date of the finding, and is therefore subject to a new 12-month finding within one year. The Service publishes an Annual Notice of Resubmitted Petition Findings (Annual Notice) for all foreign species for which listings were previously found to be warranted but precluded.

On November 28, 1980, we received a petition (1980 petition) from Dr. Warren B. King, Chairman, United States Section, International Council for Bird Preservation (ICBP), to add 77 foreign and native bird species to the list of Threatened and Endangered Wildlife (CFR 17.11). The species covered by the 1980 petition comprised 19 native species and 58 foreign species, including the black stilt and long-legged thicketbird (or long-legged warbler, which was the common name used in the petition). In response to the 1980 petition, we published a Notice to announce a positive 90-day finding and initiation of status review on May 12, 1981 (46 FR 26464). On January 20, 1984 (49 FR 2485), we published a Notice of findings on pending petitions and description of progress in listing actions (hereafter referred to as a Notice of findings), but no action on the 1980 petition was discussed. On May 10, 1985 (50 FR 19761), we published a Notice of findings in which we found that the listing of all 58 foreign bird species listed on the 1980 petition was warranted but precluded by higher-priority listing actions (warranted but precluded). In our next Notice of findings, published on January 9, 1986 (51 FR 996), we found that the listing of 54 species from the 1980 petition (including the black stilt and the long-legged thicketbird) continued to be warranted but precluded, whereas new information caused us to find that the listing of the 4 remaining species was no longer warranted. We published additional Notices of findings on July 7, 1988 (53 FR 25511), December 29, 1988 (53 FR 52746), January 6, 1989 (54 FR 554), and December 29, 1989 (54 FR 554) in which the listing of the black stilt and long-legged thicketbird remained warranted but precluded.

On December 16, 1991, in response to a petition submitted by the ICBP that we received on May 6, 1991 (1991 petition), we published a positive 90-day finding and announced the initiation of a status review of 53 foreign birds (56 FR 65207). The 1991 petition included the giant ibis, Gurney's pitta, Socorro mockingbird, and caerulean Paradise-flycatcher among the 53 foreign birds that the petitioner proposed to be added to the List of Endangered and Threatened Wildlife. On March 28, 1994 (59 FR 14496), we published a Proposed rule to list 30 African birds from both the 1980 and 1991 petitions, but in the same Federal Register document we included a Notice of findings in which we announced our determination that listing of 38 remaining species from the 1991 petition was warranted but precluded. The species whose listing was found to be warranted but precluded included the giant ibis, Gurney's pitta, Socorro mockingbird, and caerulean Paradise-flycatcher. Our most recent Annual Notice of Findings on Resubmitted Petitions for Foreign Species; Annual Description of Progress on Listing Actions (Annual Notice of Findings) was published in the Federal Register on May 21, 2004 (69 FR 29354). In that Annual Notice of Findings, based on numerical rankings and other listing priorities, we found that listing five of the previously petitioned species was now warranted. The five species included the black stilt, caerulean Paradise-flycatcher, giant ibis, Gurney's pitta, and Socorro mockingbird. We later determined that listing the long-legged thicketbird was warranted at this time, after information received in response to the Annual Notice of Findings revealed that the species still exists in very low numbers.

Summary of Factors Affecting the Black Stilt, Caerulean Paradise-Flycatcher, Giant Ibis, Gurney's Pitta, Socorro Mockingbird, and Long-Legged Thicketbird

Section 4(a)(1) of the Act (16 U.S.C. 1533(a)(1)) and regulations promulgated to implement the listing provisions of the Act (50 CFR part 424) set forth the procedures for adding species to the Federal lists. A species may be determined to be an endangered or threatened species due to one or more of the five factors described in section 4(a)(1). These factors and their application to the black stilt, caerulean Paradise-flycatcher, giant ibis, Gurney's pitta, Socorro mockingbird, and Long-legged thicketbird follow.

Black Stilt

A. The present or threatened destruction, modification, or curtailment of the black stilt's habitat or range. Habitat loss is one of the primary threats to the survival of the black stilt. Although the black stilt was once widespread throughout the wetlands of North and South Islands, New Zealand, the species' current breeding range is now restricted to wetlands and rivers of the Upper Waitaki Valley, on the eastern side of the Southern Alps, in central South Island, New Zealand (Maloney and Murray 2001). A few black stilts winter on North Island (BirdLife International 2000). New Zealand's black stilt recovery team has determined that approximately 10 percent of the population migrates to post-breeding grounds in coastal Canterbury and the northern North Island estuaries, where it utilizes these sites from February through June, before returning to breeding sites in July and August (Maloney and Murray 2001). The black stilt requires large areas of habitat for feeding and nesting. Preferred habitat includes riverbanks, lakeshores, swamps, and shallow ponds (Maloney and Murray 2001).

Habitat loss and degradation are largely human-induced and are the most difficult threats to control when undertaking the recovery of the species (IUCN 2005). Breeding grounds and nesting sites have been eliminated by drainage for agricultural purposes and diversion of rivers for hydroelectric development (Collar et al. 1994). Further habitat disruption has been attributed to overgrazing of wetlands, water extraction for agricultural irrigation, river channelization and modification for flood control schemes, and the proliferation of introduced weeds (Maloney and Murray 2001). Land is seldom returned to its original state once it has been modified for agriculture or flood-control purposes. The lack of suitable habitat for feeding and successful nesting increases the species' risk of extinction.

B. Overutilization for commercial, recreational, scientific, or educational purposes. There is no known threat to the species from use for commercial, recreational, scientific, or educational purposes.

C. Disease or predation. Researchers at the Auckland Zoo Wildlife Health and Research Centre have identified a number of “diseases of concern” for black stilts and other wading birds (Jakob-Hoff 2001). The diseases are considered threats to the wild population, particularly when releasing captive-reared birds to augment the wild population. These diseases include salmonellosis, yersiniosis, campylobacteriosis, pasteurellosis (fowl cholera), capillariasis, cestodiasis, trematodiasis, avian malaria, and coccidiosis (Jakob-Hoff 2001). Often illness and mortality in captive-reared birds can be attributed to deficient husbandry methods; therefore, improved captive-rearing husbandry techniques have been developed. The need for a surveillance program to determine the prevalence of significant disease outbreaks in wild black stilts, and other wading birds, has been recommended, so that pre-release quarantine and health-screening protocols for captive-reared birds can be developed to protect wild birds (Jakob-Hoff 2001).

Although habitat loss is a primary threat to the survival of the black stilt, the other is predation by animals that have been introduced to New Zealand, including feral cats (Felis catus), ferrets (Mustelo furo), stoats (M. erminea), hedgehogs (Erinaceus europaeus), and brown rats (Rattus norvegicus) (BirdLife International 2001, 2005). In addition, populations of avian predators, such as the Australian harrier (Circus approximans) and kelp gull (Larus dominicanus), are unnaturally high because of human-induced changes, such as the introduction of rabbits, agricultural development, and the presence of rubbish dumps (Maloney and Murray 2001). Most of the predation occurs at sunset or sunrise (Sanders and Maloney 2002). Sanders and Maloney (2002) observed cats taking adult birds during their study in the Upper Waitaki Basin, South Island.

The black stilt's life history and nesting behavior also contribute to heavy predation losses experienced by the species. They are solitary nesters, with a lengthy fledgling period, and exhibit ineffective anti-predator behavior, all factors contributing to significant mortality of nestlings and fledglings (Pierce 1996). They also prefer dry, stable riverbank locations for nesting, which may increase their susceptibility to predation by mammalian predators, such as feral cats and ferrets, which use the banks as pathways (Pierce 1986, as cited in Collar et al. 1994; Maloney and Murray 2001). Despite 20 years of predator trapping, there is only limited evidence to suggest that predator trapping is beneficial to the survival of the black stilt (Keedwell et al. 2002).

D. The inadequacy of existing regulatory mechanisms The species is not protected in the Appendices of the Convention on International Trade in Endangered Species of Wild Fauna and Flora (CITES) (CITES 2006).

The black stilt is a taonga species for the Ngai Tahu, the native tribal population in New Zealand. Taonga species are birds, plants, and other animals found within the Ngai Tahu Claim Area. Taonga species of the Ngai Tahu are legally recognized under the Ngai Tahu Claims Settlement Act of 1998, which requires the New Zealand Department of Conservation to consult with and have particular regard to the views of the Ngai Tahu when making management decisions concerning these species (Maloney and Murray 2001).

E. Other natural or manmade factors affecting the continued existence of the species. Conservation efforts for the species have been guided by two recovery plans, the first published in 1993 and a second approved in 2002; the latter covers the period 2001-2011. The goal of the current recovery plan is to increase the black stilt population within the next 10 years to more than 250 breeding individuals, with a mean annual recruitment rate that exceeds the mean annual adult mortality rate (Maloney and Murray 2001). A multi-phased program will be used to achieve this goal. The first phase involves captive-rearing black stilts and releasing large numbers of young. The second phase will utilize scientific research to determine the primary causes of adult and chick mortality and develop mitigation measures to prevent excess mortality (Maloney and Murray 2001). It should be noted that all of the threats that have resulted in the decline of the species still exist throughout its historic range (Maloney and Murray 2001).

The black stilt's breeding success is very low; for example, from 1977 to 1979, only 2 (6.1 percent) of the 33 chicks that hatched in unmanaged nests survived to fledge. Breeding success (nesting success plus breeding success) for the same period was 0.9 percent. In 1981, the New Zealand Department of Conservation undertook management of the wild black stilt population. Predator control was initiated, which resulted in fledging and breeding increases to 32.5 percent and 10.8 percent, respectively. From 1992 through 1999, utilizing limited predator control and artificial incubation, the fledging rate for 189 artificially incubated eggs that were starting to hatch when they were placed in the wild was 17 percent. Breeding success and the subsequent hatching rates for wild chicks was 16.5 percent. Recruitment rates are much lower, and the rate of natural wild recruitment is unknown because the population has been artificially managed for the past 23 years. The minimum recruitment rate (age ≥ 1 year) of captive-reared and released black stilts is 22 percent (Maloney and Murray 2001). However, during the period from 1992 to 1999, researchers found that only 8 of the 189 artificially incubated chicks (4 percent) that hatched survived to 2 years of age (Maloney and Murray 2001).

Disturbance of breeding and nesting grounds by outdoor recreational users of riverine habitats is also considered to be a serious threat to the species. These activities include indiscriminate use of off-road vehicles and jet-boats, disturbance by hikers and dogs, and fishing and camping activities (Maloney and Murray 2001). Recreational use of riverbed sites disturbs nesting birds and prevents successful rearing of offspring (BirdLife International 2006).

Conservation authorities and scientists cite the risk of a single catastrophic level event destroying most of the population as a serious threat, due to the species' small population size (Maloney and Murray 2001). Finally, the dispersed nature of individual birds limits potential contact between possible mates, increasing the likelihood of hybridization (Maloney and Murray 2001). In fact, interbreeding with the pied stilt, or poaka (H. himantopus), has been documented as the population size has decreased (Pierce 1996). Excess black stilt males are mating with female pied stilts in the absence of black stilt females (Maloney and Murray 2001). Black stilt males and pied stilt females can produce fertile offspring, but survival to adult age is about 50 percent of the survival rate of offspring of pure black stilt pairs. The relatedness of all black stilts in the population has yet to be determined, but inbreeding depression is believed to be a possible threat (Maloney and Murray 2001).

Based on the best available information, we find that the black stilt is in danger of extinction throughout its range because of several threats, which are not easy to manage or control. The primary threat to the species is loss of the extensive habitat required for successful reproduction of the species. Increased demand for electrical power to fuel growing economies has resulted in the loss of wetlands due to river diversions for hydroelectric power. Development of former breeding grounds and nesting sites, for agricultural purposes to provide food for rapidly increasing human populations, has further reduced available habitat. Furthermore, the continuing reduction and modification of wetland habitats severely impacts New Zealand's black stilt reintroduction program due to the lack of suitable available habitat for release sites. A number of disease organisms have been identified as significant threats to black stilts and other wading birds. This issue is most important when considering the vital importance of reintroduction programs utilizing captive-reared birds. A surveillance program to determine the prevalence of disease outbreaks in wild black stilts and pre-release quarantine and health-screening protocols for captive-reared birds would help to protect wild birds before reintroduction of captive-reared birds but has not yet been implemented. Predation is a serious threat to the species, and predator control has been undertaken by the New Zealand Department of Conservation for over 20 years, but there is little evidence that it has been effective in increasing fledgling survival and recruitment.

Caerulean Paradise-Flycatcher

A. The present or threatened destruction, modification, or curtailment of the caerulean Paradise-flycatcher's habitat or range. The caerulean Paradise-flycatcher inhabits one small primary forest around the base of Gunung Sahendaruman, on the Island of Sangihe, Indonesia (BirdLife International 2001). Virtually the entire Island of Sangihe has been deforested and converted to agricultural use. The total area of forest available to the species is probably less than 8 km² (BirdLife International 2005). Monoculture agricultural practices such as commercial coconut and nutmeg plantations, clear-cutting forests for wood and paper production, and encroaching human habitation are responsible for the large-scale land clearances that have occurred on Sangihe Island (BirdLife International 2001; Thompson 1996). The remaining habitat that does exist for the caerulean Paradise-flycatcher is considered sub-optimal because the species prefers lower elevations (BirdLife International 2001; Thompson 1996). Deforestation activities and destruction of habitat is a constant and continuing problem on Sangihe Island (Kirby 2003; BirdLife International 2001; Thompson 1996).

Since 1995, this species has been included in a biodiversity project, Action Sampiri, which has resulted in the development of plans to reclassify 4 km² of protection forest on Gunung Sahengbalira as a wildlife reserve, with core areas as a strict nature reserve (BirdLife International 2005). This conservation measure, however, has not yet been implemented.

B. Overutilization for commercial, recreational, scientific, or educational purposes. There is no known threat to the caerulean Paradise-flycatcher from use for commercial, recreational, scientific, or educational purposes.

C. Disease or predation. There is no available evidence indicating that disease or predation have led to the decline in caerulean Paradise-flycatcher populations or contribute to the species' risk of extinction.

D. The inadequacy of existing regulatory mechanisms. The species is not protected under CITES, and according to BirdLife International (2003), has no legal protection nationally or internationally.

E. Other natural or manmade factors affecting the continued existence of the species. The total caerulean Paradise-flycatcher population is currently estimated to range from 19 to 135 birds (BirdLife International 2005). The species is considered “Critically Endangered” by the IUCN because of its low estimated population and extremely limited range, both which continue to undergo major and continuing declines (IUCN 2005). Small populations are subject to three primary genetic risks: Inbreeding depression, loss of genetic variation, and accumulation of new mutations. Inbreeding can have individual and population consequences by either increasing the phenotypic expression of recessive, deleterious alleles (Charlesworth and Charlesworth 1987) or by reducing the overall fitness of individuals in the population.

Stochastic events such as fire, typhoon, earthquake, tsunami, or other natural disasters can result in extensive mortalities, such that the species is unable to recover and slowly dwindles into extinction. The extinction of the species may even occur during a single event.

Based on the best available information, we find that the caerulean Paradise-flycatcher is in danger of extinction throughout its range because of loss of habitat, and the diminished number of individuals remaining in the only extant population. The caerulean Paradise-flycatcher is found only in a single 8 square kilometer forest on Sangihe Island, Indonesia. However, the forests of Sangihe Island are rapidly being clear-cut for wood and paper production and the development of monoculture agricultural practices such as commercial coconut and nutmeg plantations. The remaining habitat that exists for the caerulean Paradise-flycatcher is considered sub-optimal because the species prefers forested cover at lower elevations. Until 1998, when a single female was located, the species had been considered extinct. Later expeditions have located other individuals, and the current population is now believed to range from 19 to 135 individuals. The continuing threat to the species' habitat, considered in the context of the small number of surviving individuals is magnified and places the caerulean Paradise-flycatcher at risk of extinction. Other threats may also be affecting the species' survival, but knowledge of the species is limited at this time.

Giant Ibis

A. The present or threatened destruction, modification, or curtailment of the giant ibis' habitat or range. The giant ibis' historic range extended from central and peninsular Thailand, through central and northern Cambodia, southern and central Laos, and southern Viet Nam (King et al. 1975, as cited in N.J. Collar et al. 1994). Although never believed to be a common bird species, its range has been reduced, with only a few birds remaining in open deciduous forest habitat in extreme southern Laos and a portion of northern and eastern Cambodia (BirdLife International 2001). The species is considered to be extirpated from Viet Nam and Thailand (BirdLife International 2000).

This lowland wading bird prefers open and forested wetland habitats, which have become increasingly rare in its remaining range (N.J. Collar et al. 1994). Although little is known of its breeding biology, the giant ibis is believed to nest in trees. Deforestation has reduced the number of nesting sites available to the species (BirdLife International 2005). The giant ibis also inhabits lakes, swamps, seasonally flooded marshes, paddy fields, open wooded plains, humid clearings, and pools in deep forest (Matheu and del Hoyo 1992). During drought conditions, the species congregates at permanent water holes (Matheu and del Hoyo 1992). However, the habitat loss through wetland drainage for agricultural purposes has reduced foraging and roosting areas (BirdLife International 2005).

B. Overutilization for commercial, recreational, scientific, or educational purposes. We are unaware of any threats to the giant ibis from overutilization for commercial, recreational, scientific, or educational purposes.

C. Disease or predation. There is no available information indicating that disease or predation are threats to the species.

D. The inadequacy of existing regulatory mechanisms. The species is not protected under CITES. It occurs seasonally in the Xe Pian National Biodiversity Conservation Area (NBCA) and the Dong Khanthung proposed NBCA, Laos, where the species is marginally protected by the NBCA designation for a portion of each year. The giant ibis also occurs in land set aside as the Lomphat Wildlife Sanctuary (Sanctuary), Cambodia, which is considered to be one of the most important areas for wildlife in Cambodia. In 2003 and 2004, the Service's Rhino and Tiger Conservation Fund supported the Lomphat Conservation Project (LCP), which has a long-term goal of assisting rangers and field staff in the conservation of the Sanctuary's living resources. The LCP had three goals: (1) Train and equip sufficient park rangers to prevent poaching and illegal take of wildlife and forest products; (2) community outreach and education; and (3) wildlife monitoring. Six teams of rangers were trained during the duration of the LCP and at that time, the Sanctuary had instituted patrols no less than 15 days per month. The rangers have been extremely efficient in locating poachers, illegal loggers, and entire camps set aside for poachers. The rangers have been assisted by local villagers who are quite interested in offering information to protect their resources. The relationship between the local community and the rangers was developed using extensive public outreach and education which has improved conservation awareness throughout the Sanctuary and around its borders. Educational materials were developed and tailored to the villagers' after a socio-economic assessment was completed to determine how the villagers used the local resources (WildAid 2003).

Unregulated hunting is believed to be a primary factor in the species' decline, particularly when the birds flock around waterholes during the dry season (BirdLife International 2005). The species' large size probably makes it vulnerable to hunting for subsistence purposes. Furthermore, nearly continuous war during much of the previous century throughout much of the species' range has likely contributed to the decline of the species (Matheu and del Hoyo 1992). A public-awareness campaign to reduce hunting of large waterbirds in Laos and Cambodia uses the giant ibis as a symbol to depict all threatened waterbirds on the campaign's posters and books (BirdLife International 2003). The materials are produced and distributed by The Wildlife Conservation Society in Laos and Cambodia's Wildlife Protection Office distributes information in an effort to reduce hunting of waterbirds (IUCN 2006). We are not aware of any national protective legislation.

E. Other natural or manmade factors affecting the continued existence of the species. The entire giant ibis population was estimated at 250 individuals in 1997 (Rose and Scott 1997, as cited in BirdLife International 2006). The most recent estimate indicates a total world-wide population ranging from 50 to 249 birds (BirdLife International 2006). The species occurs over a wide range and is highly sensitive to disturbance by humans. Considering the limited number of mature adults believed to be remaining in the population, the potential exists for a reduction in genetic variation. When a species becomes significantly reduced in number, the loss of genetic variation can result in inbreeding depression and an increase in the expression of deleterious alleles. Furthermore, small populations are more susceptible to stochastic events, such as severe weather, fires, and other natural disasters, which could severely reduce or eradicate the entire species in a single event. These factors contribute to an increased likelihood of extinction of the species.

We are unaware of any other natural or manmade factors affecting the continued existence of this species.

Based on the best available information, we find that the giant ibis is in danger of extinction throughout its range because of loss of habitat and hunting. Never a common species, the giant ibis now occupies a much reduced range than it did historically. Range reduction has occurred over the last century during the nearly continuous periods of armed conflict and war. Hunting has also been a major threat to the species. However, habitat loss and degradation, and decreased availability of nesting sites, are the largest threats to the species. Much of the species' former habitat has been drained, cut, irrigated, and plowed for agricultural uses.

Gurney's Pitta

A. The present or threatened destruction, modification, or curtailment of the Gurney's pitta's habitat or range. Gurney's pitta prefers secondary, lowland semi-evergreen forest, usually 160 meters (m) or less in elevation. The species nests in understory Salacca palms during the wet season, from April through October. Territories contain access to water and are located in forest edge habitat near gully systems where moist conditions remain year-round (BirdLife International 2000). The primary cause for the species' decline is the nearly total clearance of lowland forest habitat in southern Myanmar and peninsular Thailand (BirdLife International 2000). The lowland forests have been clear-cut for timber and conversion to croplands, fruit orchards, and coffee, rubber, and oil-palm plantations. By 1987, only 20-50 km² of forest below 100 m remained in peninsular Thailand, and available habitat in this area continues to decline (BirdLife International 2000).

Attempts to census the species are difficult because the Gurney's pitta is shy, secretive, and relatively silent (WCMC 2004). To date, only three Gurney's pitta's nests have been found and monitored. The fledging rate from those nests was 27.3 percent (Rose 2003). Because of the difficulty in locating the bird, until surveys were conducted in 1986-1989, habitat requirements were poorly understood.

Following the rediscovery of Gurney's pitta at Khao Nor Chuchi in Myanmar in 1986, a non-hunting area was established in 1987. This area was upgraded to a wildlife sanctuary in 1993; however, the most important and extensive areas of lowland forest have not been protected due to the presence of the local human population (Round 1999).

Although there is a substantial conservation effort involving adoption of sustainable agriculture methods around the Khao Nor Chuchi protected area, illegal forest clearance persists. Moreover, the recent practice of planting oil palms (Elaeis guineensis) on illegally cleared forest patches, which are more profitable than rubber plantations, removes the natural ground cover used for feeding and concealment by the ground-dwelling pitta (Rose 2003).

Until 2003, ornithologists believed approximately 20 Gurney's pittas had survived in the wild. However, in 2003, a population of 10-20 pairs were observed at one lowland forest site in Myanmar, and in 2004, about 150 birds were identified in the 50,000-ha Ngawun Reserve Forest, the largest remaining contiguous lowland forest in southern Myanmar (BirdLife International 2003c, 2004). However, the habitat is largely unprotected.

B. Overutilization for commercial, recreational, scientific, or educational purposes. Gurney's pitta was formerly popular in the pet trade and was overutilized for this purpose by local snare-trappers (Rose 2003; BirdLife International 2005). Trapping for the caged-bird trade continued to be a serious threat until the early 1990s. Although trapping appears to have ceased as the result of few available individuals, some hunting and trapping continues in the Khao Nor Chuchi protected area (Rose 2003). There is no information indicating that scientific or educational uses of the species are a threat.

C. Disease or predation. There is no information that indicates any threats to the species from disease or predation.

D. The inadequacy of existing regulatory mechanisms. The species was listed in CITES Appendix III by Thailand in 1987 (CITES 2006), which required that exports be accompanied by an export permit. The species was listed in CITES Appendix I in 1990, which prohibited further international trade for commercial purposes, and also required that any trade be legal and not detrimental to the survival of wild populations. As discussed under Factor A, one of the few remaining populations exists in Khao Nor Chuchi Wildlife Sanctuary, but nearby areas important to the species are not protected (Round 1999; BirdLife International 2000). In 1990, the Khao Nor Chuchi Lowland Forest Project was established to engage the local community in management, education programs, and ecotourism, to reduce pressure on the remaining forest habitat. This project, however, has been met with only limited success as economic incentives continue to govern land-use decisions (BirdLife International 2000). A survey in 2001 confirmed that protection and law enforcement at Khao Nor Chuchi is essentially nonexistent (Rose 2003).

E. Other natural or manmade factors affecting the continued existence of the species. We are unaware of any other specific natural or manmade factors affecting the continued existence of this species.

Based on the best available information, we find that the Gurney's pitta is in danger of extinction throughout its range because of loss of habitat and overharvest for the caged bird trade, especially prior to 1990. The lowland forest habitat that is preferred by the Gurney's pitta has been nearly totally cleared in southern Myanmar and peninsular Thailand. These lowland forests have been clear-cut for timber and conversion to croplands, fruit orchards, and monoculture coffee, rubber, and oil-palm plantations. Gurney's pitta was popular in the pet bird trade until fewer and fewer individuals could be located during the 1980s. By 1990, the species had been transferred from CITES Appendix III to Appendix I, which prohibits commercial trade in the species. However, the previous large-scale snaring of birds for the trade had already reduced the population to such a small number of individuals that the species has become in danger of extinction. Additionally, the remaining small populations are susceptible to the three genetic risks discussed earlier: inbreeding depression, loss of genetic variation, and accumulation of new deleterious mutations.

Socorro mockingbird

A. The present or threatened destruction, modification, or curtailment of Socorro mockingbird's habitat or range. The Socorro mockingbird's habitat and range have been severely degraded and reduced due to intensive grazing by introduced domestic sheep (BirdLife International 2000). Rabbits and pigs that were also introduced in the area have destroyed habitat by preventing woodland regeneration (Cody 2005). Prior to widespread unchecked grazing, the species was distributed in all vegetation types on the island including scrub, woodland, and woodland edge (Cody 2005). This species is also absent in degraded habitat where hop bush (Dodonaea viscose) has replaced the original understory (Martínez-Gómez et al. 2001). It is now restricted to mixed open woodland and wooded canyons at higher elevations and is most common in undisturbed habitat (Cody 2005). Grazing has completely extirpated the species from the southern portion of the island. Reduction of habitat is considered the primary cause of population and range declines of the Socorro mockingbird (BirdLife International 2000; IUCN 2005).

B. Overutilization for commercial, recreational, scientific, or educational purposes. There is no available information indicating that the Socorro mockingbird has been overutilized for commercial, recreational, scientific, or educational purposes.

C. Disease or predation. During the early 1970s, cats were introduced to the islands, and predation by feral cats was initially considered a factor contributing to the species' decline (BirdLife International 2000). However, recent examinations of feral cat stomach contents and scat have not provided substantive evidence of feral cat predation as a significant factor in the decline of the Socorro mockingbird (J. Martinez in litt., as cited in BirdLife International 2000). Nonetheless, plans to eradicate feral cats and introduced sheep from Socorro were put forward as early as 1999 (B. Tershy and B. Keitt in litt. 1999 as cited in BirdLife International 2000). In 2001, Grupo de Ecología y Conservación de Islas, A.C., (GECI) received a North American Wetlands Conservation Act grant to initiate the eradication of cats and sheep from Socorro Island (USFWS 2006). We are not aware of any disease concerns that may have led to the decline of Socorro mockingbird species.

D. The inadequacy of existing regulatory mechanisms. The species is not protected under CITES (CITES 2006). Although the Revillagigedo Islands were declared a biosphere reserve in 1994, this does not confer protection upon the Islands (Rodriguez-Estrella et al. 1996, as cited in BirdLife International 2000). We are unaware of any further protection for the species.

E. Other natural or manmade factors affecting the continued existence of the species. In 1925, the Socorro mockingbird was the most abundant land-based bird on Socorro Island, and it was still considered plentiful in 1958. However, within the next 20 years, the species began to decline, and by 1978 it was feared to be on the verge of extinction (BirdLife International 2000). Field surveys conducted from 1988 through 1990 yielded population estimates of 50-200 remaining pairs (Castellanos and Rodr 1993 as cited in BirdLife International 2000). Further surveys carried out in 1993-1994 resulted in a population estimate of 350 individuals inhabiting the island (MartGand Curry 1996 as cited in BirdLife International 2000). During the survey, 215 birds were banded and 55 percent of the total was found to be subadults (BirdLife International 2000). The large percentage of subadults suggests that the current number of mature birds is quite small (IUCN 2003). Population estimates in 2000 ranged from 50 to 249 individual Socorro mockingbirds (BirdLife International 2000). The IUCN lists the species as Critically Endangered because of loss of habitat and the small remaining number of mature adults (IUCN 2006). Considering the limited number of mature adults believed to be remaining in the population, the potential exists for a reduction in genetic variation. When a species becomes significantly reduced in number, the loss of genetic variation can result in inbreeding depression and an increase in the expression of deleterious alleles. Furthermore, small populations are more susceptible to stochastic events, such as severe weather, fires, and other natural disasters, which could severely reduce or eradicate the entire species in a single event. These factors contribute to an increased likelihood of extinction of the species.

We are unaware of any other specific natural or manmade factors affecting the continued existence of this species.

Based on the best available information, we find that the Socorro mockingbird is in danger of extinction throughout its range because of loss of habitat. The primary cause of habitat loss and range contraction is overgrazing due to the introduction of domestic sheep. Introduced rabbits and pigs have also destroyed habitat by preventing woodland regeneration, thus forcing the complete extirpation of the Socorro mockingbird from most of its former range.

Long-Legged Thicketbird

A. The present or threatened destruction, modification, or curtailment of the long-legged thicketbird's habitat or range. Much of the forest habitat the long-legged thicketbird inhabits is unprotected in Fiji and there is a high probability that it will be logged and converted to plantations for big-leaf mahogany (Swietenia macrophylla) in the near future (BirdLife International 2003b). Converting forest habitat to mahogany plantations produces unsuitable habitat for this species and is a putative factor in the species' decline.

B. Overutilization for commercial, recreational, scientific, or educational purposes. We are unaware of any threat to the species from overutilization for commercial, recreational, scientific, or educational purposes.

C. Disease or predation. Mongooses were introduced in 1883 to Fiji to kill rats (IUCN et al 2006). However, they are considered a serious predatory threat because they also prey on ground-dwelling forest birds, such as the long-legged thicketbird (BirdLife International 2005). The mongoose is responsible for the local extirpation of all of the ground-nesting birds on the main Fijian islands (BirdLife International 2004). It is likely that mongoose predation has contributed to the decline of the long-legged thicketbird, given that the species is ground-dwelling and currently restricted to rainforests in the mountainous regions of the Fijian Islands.

D. The inadequacy of existing regulatory mechanisms. The forest habitat of the long-legged thicketbird is unprotected in Fiji (BirdLife International 2004). We are not aware of any existing regulatory mechanisms for the conservation of the species. The species is not protected under CITES (CITES 2006).

E. Other natural or manmade factors affecting the continued existence of the species. The long-legged thicketbird is a reclusive island endemic, found only in the mountain forests of Fiji, which are rapidly being destroyed by logging and development of bigleaf mahogany plantations. Previously believed to be extinct, the species was rediscovered in 2004, and only a small number of individuals have been located at this time. Researchers discovered 12 pairs of long-legged thicketbirds in Wabu, a remote Forest Reserve on the island of Viti Levu, Fiji (BirdLife International 2003). The survey coordinator was the first to notice a previously unknown bird song on Viti Levu while field personnel were recording other species' songs in the area. Recognition of the unknown bird song finally led the team to nine pairs of long-legged thicketbirds inhabiting in dense undergrowth thickets along a 2-km reach of stream at an elevation of 800-1000 meters (BirdLife International 2003). Field personnel believe that the discovery of 18 birds living in such a limited area of old-growth forest reflects a relatively high local density (BirdLife International 2003). Two pairs of the birds were accompanied by recently fledged juveniles. Additional birds have been located during recent surveys, and the population is now believed to range from 50 to 249 individuals, with a stable trend (BirdLife International 2006). The IUCN categorizes the species as Endangered (IUCN 2006). Little is known about the species' life history, except that it prefers old-growth forest, which is rapidly disappearing in the area. Similar to other species with small population numbers, the thicketbird may have experienced a reduction in genetic variation. When a species becomes significantly reduced in number, the loss of genetic variation can result in inbreeding depression and an increase in the expression of deleterious alleles. Furthermore, small populations are more susceptible to stochastic events, such as severe weather, fires, and other natural disasters, which could significantly reduce or eradicate the entire species in a single event. These factors contribute to an increased likelihood of extinction of the species.

Based on the best available information, we find that the long-legged thicketbird is in danger of extinction throughout its range because the species is an island endemic found in extremely limited habitat. Other threats include loss of habitat and predation. Degraded forest habitat is unsuitable for the species and is believed to be a factor in the species' decline. Predation by introduced mongoose is likely also a threat to the species, as they have been the cause of extirpation of many other ground-dwelling bird species in the Fijian Islands.

Available Conservation Measures

Conservation measures provided to species listed as endangered or threatened under the Act include recognition, recovery actions, requirements for Federal protection, and prohibitions against certain practices. Recognition through listing results in public awareness, and encourages and results in conservation actions by Federal and State governments, private agencies and groups, and individuals.

Section 7(a) of the Act, as amended, and as implemented by regulations at 50 CFR part 402, requires Federal agencies to evaluate their actions within the United States or on the high seas with respect to any species that is proposed or listed as endangered or threatened, and with respect to its critical habitat, if any is being designated. However, given that the black stilt, caerulean Paradise-flycatcher, giant ibis, Gurney's pitta, Socorro mockingbird, and long-legged thicketbird are not native to the United States, no critical habitat is being proposed for designation with this rule.

Section 8(a) of the Act authorizes the provision of limited financial assistance for the development and management of programs that the Secretary of the Interior determines to be necessary or useful for the conservation of endangered species in foreign countries. Sections 8(b) and 8(c) of the Act authorize the Secretary to encourage conservation programs for foreign endangered species and to provide assistance for such programs in the form of personnel and the training of personnel.

The Act and its implementing regulations set forth a series of general prohibitions and exceptions that apply to all endangered wildlife. As such, these prohibitions would be applicable to the black stilt, caerulean Paradise-flycatcher, giant ibis, Gurney's pitta, Socorro mockingbird, and long-legged thicketbird. These prohibitions, pursuant to 50 CFR 17.21, in part, make it illegal for any person subject to the jurisdiction of the United States to “take” (includes harass, harm, pursue, hunt, shoot, wound, kill, trap, capture, or to attempt any of these) within the United States or upon the high seas; import or export; deliver, receive, carry, transport, or ship in interstate or foreign commerce in the course of commercial activity; or sell or offer for sale in interstate or foreign commerce any endangered wildlife species. It also is illegal to possess, sell, deliver, carry, transport, or ship any such wildlife that has been taken in violation of the Act. Certain exceptions apply to agents of the Service and State conservation agencies.

Permits may be issued to carry out otherwise prohibited activities involving endangered wildlife species under certain circumstances. Regulations governing permits are codified at 50 CFR 17.22. With regard to endangered wildlife, a permit may be issued for the following purposes: For scientific purposes, to enhance the propagation or survival of the species, and for incidental take in connection with otherwise lawful activities.

Public Comments Solicited

The Service intends that any final action resulting from this proposal will be as accurate and as effective as possible. Therefore, comments or suggestions from the public, other concerned governmental agencies, the scientific community, industry, or any other interested party concerning this proposed rule are hereby solicited. Comments particularly are sought concerning biological information, population status, commercial trade, or other relevant data concerning any threat (or lack thereof) to these species.

Our practice is to make comments, including names and home addresses of respondents, available for public review during regular business hours. Individuals may request that we withhold their home addresses, which we will honor to the extent allowable by law. In some circumstances, we may also withhold an individual's identity, as allowable by law. If you wish us to withhold your name or address, you must state this request prominently at the beginning of your comment. However, we will not consider anonymous comments. To the extent consistent with applicable law, we will make all submissions from organizations or businesses, and from individuals identifying themselves as representatives or officials of organizations or businesses, available for public inspection in their entirety. Comments and materials received will be available for public inspection, by appointment, during normal business hours at the address listed in the ADDRESSES section.

Final promulgation of the regulations concerning the listing of these species will take into consideration all comments and additional information received by the Service, and such communications may lead to a final regulation that differs from this proposal.

The Act provides for one or more public hearings on this proposal, if requested. Requests must be received within 45 days of the date of the publication of the proposal in the Federal Register. Such requests must be made in writing and be addressed to the Chief of the Division of Scientific Authority (see ADDRESSES section).

Peer Review

In accordance with our policy, “Notice of Interagency Cooperative Policy for Peer Review in Endangered Species Act Activities,” that was published on July 1, 1994 (59 FR 34270), we will seek the expert opinion of at least three appropriate independent specialists regarding this proposed rule. The purpose of such review is to ensure listing decisions are based on scientifically sound data, assumptions, and analysis. We will send copies of this proposed rule to the peer reviewers immediately following publication in the Federal Register.

Paperwork Reduction Act

This proposed rule does not contain any new collections of information that require approval by the Office of Management and Budget (OMB) under 44 U.S.C. 3501 et seq. The regulation will not impose new recordkeeping or reporting requirements on State or local governments, individuals, businesses, or organizations. We may not conduct or sponsor and you are not required to respond to a collection of information unless it displays a currently valid OMB control number.

National Environmental Policy Act

We have determined that Environmental Assessments and Environmental Impact Statements, as defined under the authority of the National Environmental Policy Act of 1969, need not be prepared in connection with regulations adopted pursuant to section 4(a) of the Act. A notice outlining our reasons for this determination was published in the Federal Register on October 25, 1983 (48 FR 49244).

Clarity of This Regulation

Executive Order 12866 requires each agency to write regulations that are easy to understand. We invite your comments on how to make this proposed rule easier to understand, including answers to questions such as the following: (1) Are the requirements in the proposed rule clearly stated? (2) Does the proposed rule contain technical language or jargon that interferes with its clarity? (3) Does the format of the proposed rule (groupings and order of sections, use of headings, paragraphing, etc.) aid or reduce its clarity? (4) Would the rule be easier to understand if it were divided into more (but shorter) sections? (5) Is the description of the proposed rule in the SUPPLEMENTARY INFORMATION section of the preamble helpful in understanding the proposed rule? What else could we do to make the proposed rule easier to understand? Send a copy of any comments that concern how we could make this rule easier to understand to the Office of Regulatory Affairs, Department of the Interior, Room 7229, 1849 C Street, NW., Washington, DC 20240. You also may e-mail comments to Exsec@ios.doi.gov.

References Cited

A list of the references used to develop this proposed rule is available upon request (see ADDRESSES section).

Author

The primary author of this notice is Marie T. Maltese, Division of Scientific Authority, U.S. Fish and Wildlife Service (see ADDRESSES section).

List of Subjects in 50 CFR Part 17

Endangered and threatened species, Exports, Imports, Reporting and recordkeeping requirements, Transportation.

Proposed Regulation Promulgation

Accordingly, we propose to amend part 17, subchapter B of chapter I, title 50 of the Code of Federal Regulations, as follows:

PART 17—[AMENDED]

1. The authority citation for part 17 continues to read as follows:

Authority: 16 U.S.C. 1361-1407; 16 U.S.C. 1531-1544; 16 U.S.C. 4201-4245; Pub. L. 99-625, 100 Stat. 3500; unless otherwise noted.

2. Amend 17.11(h) by adding new entries for “Ibis, giant,” “Mockingbird, Socorro,” “Paradise-flycatcher, caerulean,” “Pitta, Gurney's,” “Stilt, black,” and “Thicketbird, Long-legged” in alphabetical order under Birds, to the List of Endangered and Threatened Wildlife as follows:

§ 17.11 Endangered and threatened wildlife.

* * * * *

(h) * * *

Species: Common name | Species: Scientific name | Historic range | Vertebrate population where endangered or threatened | Status | When listed | Critical habitat | Special rules
* * * * * * *
BIRDS
* * * * * * *
Ibis, giant | Pseudibis gigantea | Cambodia, Laos, Thailand, Viet Nam | Entire | E |  | NA | NA
* * * * * * *
Mockingbird, Socorro | Mimodes graysoni | Mexico | Entire | E |  | NA | NA
* * * * * * *
Paradise-flycatcher, caerulean | Eutrichomyias rowleyi | Indonesia | Entire | E |  | NA | NA
* * * * * * *
Pitta, Gurney's | Pitta gurneyi | Myanmar, Thailand | Entire | E |  | NA | NA
* * * * * * *
Stilt, black | Himantopus novaezelandiae | New Zealand | Entire | E |  | NA | NA
* * * * * * *
Thicketbird, long-legged | Trichocichla rufa | Fiji | Entire | E |  | NA | NA
* * * * * * *

Dated: November 6, 2006.
H. Dale Hall,
Director, Fish and Wildlife Service.

[FR Doc. E6-19721 Filed 11-21-06; 8:45 am]

BILLING CODE 4310-55-P